ENVIRONMENTAL PROTECTION AGENCY

40 CFR Part 271

[FRL-7926-9]

Maine: Proposed Authorization of State Hazardous Waste Management Program Revisions

AGENCY: Environmental Protection Agency (EPA).

ACTION: Proposed rule.

SUMMARY: Vermont has applied to EPA for Final authorization of changes to its hazardous waste program under the Resource Conservation and Recovery Act (RCRA). EPA proposes to grant final authorization to Vermont. In the “Rules and Regulations” section of this Federal Register, EPA is authorizing these changes by an immediate final rule. EPA did not make a proposal prior to the immediate final rule because we believe this action is not controversial and do not expect adverse comments that oppose it. We have explained the reasons for this authorization in the preamble to the immediate final rule. Unless we get written adverse comments which oppose this authorization during the comment period, the immediate final rule will become effective on the date it establishes, and we will not take further action on this proposal. If we get comments that oppose this action, we will withdraw the immediate final rule and it will not take effect. We will then respond to public comments in a later final rule based on this proposal. You may not have another opportunity for comment. If you want to comment on this action, you should do so at this time.

DATES: Send your written comments by July 25, 2005.

ADDRESSES: Send written comments to Sharon Leitch, Hazardous Waste Unit, EPA Region 1, One Congress Street, Suite 1100 (CHW), Boston, MA 02114-2023; tel: (617) 918-1647. Comments also may be submitted electronically or through hand delivery/courier; please follow the detailed instructions in the ADDRESSES section of the immediate final rule which is located in the “Rules” section of this Federal Register. You can examine copies of the State of Vermont's revision application and the materials which the EPA used in evaluating the revision at the following two locations: (i) EPA Region 1 Library, One Congress Street—11th Floor, Boston, MA 02114-2023; business hours Monday through Thursday 10 a.m.-3 p.m., tel: (617) 918-1990; and (ii) the Agency of Natural Resources, Vermont Department of Environmental Conservation, Waste Management Division, 103 South Main Street—West Office Building, Waterbury, Vermont, 05671-0404, tel: (802) 241-3888. Business Hours: 7:45 a.m. to 4:30 p.m., Monday through Friday.

FOR FURTHER INFORMATION CONTACT: Sharon Leitch at the above address and phone number.

SUPPLEMENTARY INFORMATION: For additional information, please see the immediate final rule published in the “Rules and Regulations” section of this Federal Register.

Dated: June 3, 2005.
Ira Leighton,
Acting Regional Administrator, EPA New England.

[FR Doc. 05-12453 Filed 6-22-05; 8:45 am]

BILLING CODE 6560-50-P